ENVIRONMENTAL PROTECTION AGENCY

[FRL-7592-6]

Proposed Administrative Cost Settlement Under Section 122(h)(1) of the Comprehensive Environmental Response, Compensation and Liability Act; In the Matter of Master Metals, Inc. Site, Detroit, MI

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of response costs concerning the Master Metals Superfund Site, including the Detroit Lead Deposition Screening Project (“the Site”) in Detroit, Michigan, with six parties: NL Industries, Inc., Honeywell International Inc., Johnson Controls Battery Group, Inc., General Motors Corporation, Ford Motor Company and DaimlerChrysler (“the settling parties”). The settlement requires the settling parties to: (1) Implement the remedies selected in U.S. EPA's action memorandum dated February 5, 2003 and action memorandum dated July 16, 2003 for the Site; (2) pay response costs incurred at the Site between November 16, 2001 and the effective date of the settlement (“interim response costs”), except for the first $250,000 of these response costs; (3) pay future response costs, including costs of overseeing the work to be performed at the Site.

In exchange for the work to be performed and the payments, the United States covenants not to sue or take administrative action pursuant to Sections 106, 107 and 122 of CERCLA, 42 U.S.C. 9606, 9607 and 9622 for the work, interim response costs and future response costs. In addition, the settling parties are entitled to protection from contribution actions or claims as provided by Sections 113(f) and 122(h)(4) of CERCLA, 42 U.S.C. 9613(f) and 9622(h)(4), for the work, interim response costs and future response costs incurred at the Site.

For thirty (30) days after the date of publication of this notice, the Agency will receive written comments relating to the cost recovery provisions of the settlement. The Agency will consider all comments received and may modify or withdraw its consent to the settlement if comments received disclose facts or considerations which indicate that the settlement is inappropriate, improper, or inadequate. The Agency's response to any comments received will be available for public inspection at U.S. EPA's Region 5 Office at 77 West Jackson Boulevard, Chicago, Illinois, 60604, and at the Detroit Public Library, Detroit, MI.

DATES: Comments must be submitted on or before January 2, 2004.

ADDRESSES: The proposed settlement is available for public inspection at EPA's Record Center, 7th floor, 77 W. Jackson Blvd., Chicago, Illinois, 60604. A copy of the proposed settlement may be obtained from Janet Carlson, Associate Regional Counsel, U.S. EPA, Mail Code C-14J, 77 W. Jackson Blvd., Chicago, Illinois, 60604, telephone (312) 886-6059. Comments should reference the Master Metals, Inc. Superfund Site, Detroit, Michigan, and EPA Docket No. VW03C754, and should be addressed to Janet Carlson, Associate Regional Counsel, U.S. EPA, Mail Code C-14J, 77 W. Jackson Blvd., Chicago, Illinois, 60604.

FOR FURTHER INFORMATION CONTACT: Janet Carlson, Associate Regional Counsel, U.S. EPA, Mail Code C-14J, 77 W. Jackson Blvd., Chicago, Illinois, 60604, telephone (312) 886-6059.

Authority: The Comprehensive Environmental Response, Compensation, and Liability Act of 1980, as amended, 42 U.S.C. 9601, et. seq.

Dated: August 19, 2003.
James N. Mayka,
Acting Director, Superfund Division.

[FR Doc. 03-30047 Filed 12-2-03; 8:45 am]

BILLING CODE 6560-50-P